FEDERAL RESERVE SYSTEM

Change in Bank Control Notices, Acquisition of Shares of Bank or Bank Holding Companies; Correction

This notice corrects a notice (FR Doc. E7-11296) published on page 32296 of the issue for Tuesday, June 12, 2007.

Under the Federal Reserve Bank of St. Louis heading, the entry for Gaylon M. Lawrence, Jr., Franklin, Tennessee, is revised to read as follows:

A. Federal Reserve Bank of St. Louis (Glenda Wilson, Community Affairs Officer) 411 Locust Street, St. Louis, Missouri 63166-2034:

1. Gaylon M. Lawrence, Jr., Nashville, Tennessee; to acquire control of Farmers Bancorp, Inc., and thereby indirectly acquire control of Farmers Bank and Trust Company, both of Blytheville, Arkansas.

Comments on this application must be received by June 27, 2007.

Board of Governors of the Federal Reserve System, June 14, 2007.
Robert deV. Frierson,
Deputy Secretary of the Board.

[FR Doc. E7-11762 Filed 6-18-07; 8:45 am]

BILLING CODE 6210-01-S